DEPARTMENT OF LABOR

Employment and Training Administration

[TA-W-53,664]

Owens-Illinois, Inc., Hayward, CA; Notice of Affirmative Determination Regarding Application for Reconsideration

By letter of April 8, 2004, Glass, Molders, Pottery, Plastics & Allied Workers International Union and Local Union 167 requested administrative reconsideration of the Department of Labor's Notice of Negative Determination Regarding Eligibility to Apply for Worker Adjustment Assistance, applicable to workers of the subject firm. The Department's determination notice was signed on January 29, 2004. The Notice was published in the Federal Register on March 12, 2004 (69 FR 11888).

The Department reviewed the request for reconsideration and has determined that the petitioners have provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 21st day of May, 2004.
Linda G. Poole,
Certifying Officer, Division of Trade Adjustment Assistance.

[FR Doc. 04-12386 Filed 6-1-04; 8:45 am]

BILLING CODE 4510-30-P